ENVIRONMENTAL PROTECTION AGENCY

40 CFR Parts 9 and 86

[EPA-HQ-OAR-2005-0474; FRL-8214-8]

RIN 2060-AN70

Amendments to Regulations for Heavy-Duty Diesel Engines

AGENCY: Environmental Protection Agency (EPA).

ACTION: Notice of Proposed Rulemaking.

SUMMARY: In a rule published January 18, 2001, EPA promulgated several new standards for heavy-duty highway diesel engines and vehicles beginning in model year 2007. In this rulemaking we are proposing to make some technical amendments to the regulations to correct typographical errors, revise references, remove old provisions, and to revise some provisions regarding deterioration factors to be identical to those for nonroad diesel engines certified under the Tier 4 rule, published June 29, 2004.

DATES: Written comments must be received by September 29, 2006. Request for a public hearing must be received by September 14, 2006. If we receive a request for a public hearing, we will publish information related to the timing and location of the hearing and the timing of a new deadline for public comments.

ADDRESSES: Submit your comments, identified by Docket ID No. EPA-HQ-OAR-2005-0474, by one of the following methods:

• http://www.regulations.gov: Follow the on-line instructions for submitting comments.

• E-mail: a-and-r-docket@epa.gov.

• Fax: (202) 566-1741.

• Mail: U.S. Environmental Protection Agency, EPA West Building, 1200 Pennsylvania Ave., NW., Room: B108 Mail Code: 6102T, Washington, DC 20460. Deliveries are only accepted during the Docket's normal hours of operation from 8:30 a.m. to 4:30 p.m., Monday through Friday, except on government holidays. If your Docket requires the submission of multiple copies, please insert the following here:

• Please include a total of copies.

• If the NPRM involves an ICR that will be submitted to OMB for review and approval under 5 CFR 1320.11, then you must also include the following language pursuant to 1320.11(a): “In addition, please mail a copy of your comments on the information collection provisions to the Office of Information and Regulatory Affairs, Office of Management and Budget (OMB), Attn: Desk Officer for EPA, 725 17th St. NW., Washington, DC 20503.”

• Hand Delivery: EPA Docket Center (Air Docket), U.S. Environmental Protection Agency, EPA West Building, 1301 Constitution Avenue, NW., Room: B108 Mail Code: 6102T, Washington, DC. Such deliveries are only accepted during the Docket's normal hours of operation from 8:30 a.m. to 4:30 p.m., Monday through Friday, except on government holidays, and special arrangements should be made for deliveries of boxed information.

Instructions: Direct your comments to Docket ID No. EPA-HQ-OAR-2005-0474. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA without going through http://www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

Docket: All documents in the docket are listed in the http://www.regulations.gov index. Although listed in the index, some information is not publicly available, e.g., CBI or other information whose disclosure is restricted by statute. Certain other material, such as copyrighted material, will be publicly available only in hard copy. Publicly available docket materials are available either electronically in http://www.regulations.gov or in hard copy at the EPA Docket Center (EPA/DC), Air Docket, Public Reading Room, Room B108, EPA West Building, 1301 Constitution Avenue, NW., Washington, DC. The EPA Docket Center Public Reading Room is open from 8:30 a.m. to 4:30 p.m., Monday through Friday, except on government holidays. You can reach the Air Docket by telephone at (202) 566-1742 and by facsimile at (202) 566-1741. You may be charged a reasonable fee for photocopying docket materials, as provided in 40 CFR part 2.

FOR FURTHER INFORMATION CONTACT: Zuimdie Guerra, Assessment and Standards Division, e-mail guerra.zuimdie@epa.gov, voice-mail (734) 214-4387.

SUPPLEMENTARY INFORMATION:

I. General Information

A. Background

In the “Rules and Regulations” section of this Federal Register, we are making these revisions as a direct final rule without prior proposal because we view these revisions as noncontroversial and anticipate no adverse comment.

We have explained our reasons for these revisions in the preamble to the direct final rule. If we receive no adverse comment, we will not take further action on this proposed rule. If we receive adverse comment on the rule, or on one or more distinct actions in the rule, we will withdraw the direct final rule, or the portions of the rule receiving adverse comment. We will address all public comments in a subsequent final rule based on this proposed rule. We will not institute a second comment period on this action. Any parties interested in commenting must do so at this time.

B. Regulated Entities

This action will affect companies that manufacture and certify heavy-duty highway diesel engines in the United States.

Category | NAICS code ᵃ | Examples of potentially affected entities
Industry | 336112 | Engine and Truck Manufacturers.
Industry | 33612 | Heavy-duty Engine and Truck Manufacturers.
ᵃ North American Industry Classification System (NAICS).

To determine whether particular activities may be affected by this action, you should carefully examine the regulations. You may direct questions regarding the applicability of this action as noted in FOR FURTHER INFORMATION CONTACT.

C. What Should I Consider as I Prepare My Comments for EPA?

1. Submitting CBI. Do not submit this information to EPA through http://www.regulations.gov or e-mail. Clearly mark the part or all of the information that you claim to be CBI. For CBI information in a disk or CD ROM that you mail to EPA, mark the outside of the disk or CD ROM as CBI and then identify electronically within the disk or CD ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for Preparing Your Comments. When submitting comments, remember to:

• Identify the rulemaking by docket number and other identifying information (subject heading, Federal Register date and page number).

• Follow directions—The agency may ask you to respond to specific questions or organize comments by referencing a Code of Federal Regulations (CFR) part or section number.

• Explain why you agree or disagree; suggest alternatives and substitute language for your requested changes.

• Describe any assumptions and provide any technical information and/or data that you used.

• If you estimate potential costs or burdens, explain how you arrived at your estimate in sufficient detail to allow for it to be reproduced.

• Provide specific examples to illustrate your concerns, and suggest alternatives.

• Explain your views as clearly as possible, avoiding the use of profanity or personal threats.

• Make sure to submit your comments by the comment period deadline identified.

C. How Can I Get Copies of This Document and Send Comments?

See the direct final rule EPA has published in the “Rules and Regulations” section of today's Federal Register for information about accessing these documents. The direct final rule also includes detailed instructions for sending comments to EPA.

II. Summary of Rule

This proposed rule would make slight revisions to the regulations to implement the following minor amendments:

• Removing several sections that describe regulatory requirements for model years before 1996, and before 2001 for Selective Enforcement Auditing. Discontinuing publication of these sections does not affect the manufacturers' responsibility to continue meeting standards for any vehicles or engines that may still be operating within the regulatory useful life.

• Referring provisions for certification fees in part 86 subpart J to part 85 subpart Y, since they have been completely replaced in part 85 starting with the 2004 model year.

• Requiring engine manufacturers to name an agent for service in the United States in § 86.007-21, § 86.416-80, § 86.437-78, and § 86.1844-01.

• Revising deterioration factor provisions in § 86.004-28(c)(4)(iii)(B).

• Correcting a typographical error in the equation in § 86.007-11(a)(2)(v).

• Adding paragraph (j) to § 86.007-35 to ensure that the recently added provision that allows labeling flexibility to heavy-duty engines extends to 2007 and later model years.

• Revising § 86.1213-94 to reference the fuel specifications in part 86, subpart N.

• Republishing § 86.1360(c), which was removed in the migration of test procedures to 40 CFR part 1065, because there is a reference to it in § 86.1370-2007 and in § 86.1380-2004.

• Citing the incorporation by reference of several technical standards related to on-board diagnostics in § 86.1806-01.

• Correcting reference to LDVs, LDTs and heavy-duty vehicles in CFR § 86.1806-04(j) and § 86.1806-05(j).

• Correcting a mistake made in the 2004 Heavy-Duty rule that accidentally omitted paragraphs (c) and (d) from § 86.1840-01.

EPA does not expect that the technical amendments will have any adverse cost impact to the manufacturers. There are no testing costs associated with the technical amendments proposed. There is no environmental impact associated with this regulatory action because this proposed rule does not propose to change the heavy-duty highway diesel engine emission standards that manufactures have to meet; it simply make some technical amendments to the rule.

For additional discussion of the proposed rule changes, see the direct final rule EPA has published in the “Rules and Regulations” section of today's Federal Register. This proposal incorporates by reference all the reasoning, explanation, and regulatory text from the direct final rule.

III. Statutory and Executive Order Reviews

A. Executive Order 12866: Regulatory Planning and Review

This action is not a “significant regulatory action” under the terms of Executive Order (EO) 12866 (58 FR 51735, October 4, 1993) and is therefore not subject to review under the EO. This proposed rule is not a significant regulatory action as it merely makes a slight revision to the regulations to correct typographical errors, revise references, restore sections, conciliate provisions with our nonroad engine regulations and remove old provisions for highway heavy-duty diesel engines. There are no new costs associated with this rule. A Final Regulatory Support Document was prepared in connection with the original regulations for heavy-duty diesel engines and vehicles beginning in model year 2007 (HD 2007 rule), which was signed December 21, 2000 and published January 18, 2001 (66 FR 5002) and we have no reason to believe that our analysis in the original rulemaking is inadequate. The relevant analysis is available in the docket for the December 21, 2000 rulemaking (66 FR 5002) and at the following Internet address: http://www.epa.gov/otaq/diesel.htm. The original action (66 FR 5002) was submitted to the Office of Management and Budget for review under Executive Order 12866.

B. Paperwork Reduction Act

This proposed rule does not include any new collection requirements, as it merely makes a slight revision to the regulations to correct typographical errors, revise references, restore sections, conciliate provisions with our nonroad engine regulations and remove old provisions for highway heavy-duty diesel engines. There are no new paperwork requirements associated with this rule. The information collection requirements (ICR) for the original heavy-duty diesel engines and vehicles rulemaking were approved by the Office of Management and Budget (OMB) under the Paperwork Reduction Act, 44 U.S.C. 3501 et seq. and assigned OMB control number 2060-0104, EPA ICR number 0783.47. A copy of the OMB approved Information Collection Request (ICR) may be obtained from Susan Auby, Collection Strategies Division; U.S. Environmental Protection Agency (2822T); 1200 Pennsylvania Ave., NW., Washington, DC 20460 or by calling (202) 566-1672.

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

An agency may not conduct or sponsor, and a person is not required to respond to a collection of information unless it displays a currently valid OMB control number. The OMB control numbers for EPA's regulations in 40 CFR are listed in 40 CFR part 9.

C. Regulatory Flexibility Act

The Regulatory Flexibility Act (RFA) generally requires an agency to prepare a regulatory flexibility analysis of any rule subject to notice and comment rulemaking requirements under the Administrative Procedure Act or any other statute unless the agency certifies that the rule will not have a significant economic impact on a substantial number of small entities. Small entities include small businesses, small organizations, and small governmental jurisdictions.

For purposes of assessing the impacts of this proposed rule on small entities, a small entity is defined as: (1) A small business that meet the definition for business based on SBA size standards at 13 CFR 121.201; (2) a small governmental jurisdiction that is a government of a city, county, town, school district or special district with a population of less than 50,000; and (3) a small organization that is any not-for-profit enterprise which is independently owned and operated and is not dominant in its field.

After considering the economic impacts of today's proposed rule on small entities, I certify that this action will not have a significant economic impact on a substantial number of small entities. In determining whether a rule has a significant economic impact on a substantial number of small entities, the impact of concern is any significant adverse economic impact on small entities, since the primary purpose of the regulatory flexibility analyses is to identify and address regulatory alternatives “which minimize any significant economic impact of the rule on small entities.” 5 U.S.C. 603 and 604. Thus, an agency may certify that a rule will not have a significant economic impact on a substantial number of small entities if the rule relieves regulatory burden, or otherwise has a positive economic effect on all of the small entities subject to the rule.

This proposed rule merely makes a slight revision to the regulations to correct typographical errors, revise references, restore sections, conciliate provisions with our nonroad engine regulations and remove old provisions for highway heavy-duty diesel engines. We have therefore concluded that today's proposed rule will relieve regulatory burden for all affected small entities. We continue to be interested in the potential impacts of the proposed rule on small entities and welcome comments on issues related to such impacts.

D. Unfunded Mandates Reform Act

This proposed rule contains no Federal mandates for state, local, or tribal governments as defined by the provisions of Title II of the UMRA. The proposed rule imposes no enforceable duties on any of these governmental entities. Nothing in the proposed rule would significantly or uniquely affect small governments. EPA has determined that this rule contains no regulatory requirements that might significantly or uniquely affect small governments.

This proposed rule merely makes a revision to the regulations to provide an additional option for selecting the deterioration factor for highway heavy duty diesel engines. The requirements of UMRA therefore do not apply to this action. See the direct final rule EPA has published in the “Rules and Regulations” section of today's Federal Register for a more extensive discussion of UMRA policy.

E. Executive Order 13132: Federalism

This proposed rule does not have federalism implications. It will not have substantial direct effects on the States, on the relationship between the national government and the States, or on the distribution of power and responsibilities among the various levels of government, as specified in Executive Order 13132. This proposed rule merely makes a revision to the regulations to correct typographical errors, revise references, restore sections, conciliate provisions with our nonroad engine regulations and remove old provisions for highway heavy-duty diesel engines. See the direct final rule EPA has published in the “Rules and Regulations” section of today's Federal Register for a more extensive discussion of Executive Order 13132. In the spirit of Executive Order 13132, and consistent with EPA policy to promote communications between EPA and State and local governments, EPA specifically solicits comment on this proposed rule from State and local officials.

F. Executive Order 13175: Consultation and Coordination With Indian Tribal Governments

This proposed rule does not have tribal implications. It will not have substantial direct effects on tribal governments, on the relationship between the Federal government and Indian tribes, or on the distribution of power and responsibilities between the Federal government and Indian tribes, as specified in Executive Order 13175. This proposed rule does not uniquely affect the communities of Indian Tribal Governments. Further, no circumstances specific to such communities exist that would cause an impact on these communities beyond those discussed in the other sections of this rule. This proposed rule merely makes a revision to the regulations to correct typographical errors, revise references, restore sections, conciliate provisions with our nonroad engine regulations and remove old provisions for highway heavy-duty diesel engines. Thus, Executive Order 13175 does not apply to this rule. See the direct final rule EPA has published in the “Rules and Regulations” section of today's Federal Register for a more extensive discussion of Executive Order 13132.

G. Executive Order 13045: Protection of Children From Environmental Health and Safety Risks

This proposed rule is not subject to the Executive Order because it is not economically significant, and does not involve decisions on environmental health or safety risks that may disproportionately affect children. See the direct final rule EPA has published in the “Rules and Regulations” section of today's Federal Register for a more extensive discussion of Executive Order 13045.

H. Executive Order 13211: Actions That Significantly Affect Energy Supply, Distribution, or Use

This rule is not subject to Executive Order 13211, “Actions Concerning Regulations That Significantly Affect Energy Supply, Distribution, or Use” (66 FR 28355 (May 22, 2001)) because it is not a significant regulatory action under Executive Order 12866.

I. National Technology Transfer and Advancement Act

This proposed rule does not involve technical standards. It merely makes a revision to the regulations to correct typographical errors, revise references, restore sections, conciliate provisions with our nonroad engine regulations and remove old provisions for highway heavy-duty diesel engines. Thus, we have determined that the requirements of the NTTAA do not apply. See the direct final rule EPA has published in the “Rules and Regulations” section of today's Federal Register for a more extensive discussion of NTTAA policy.

J. Statutory Authority

The statutory authority for this action comes from section 202 of the Clean Air Act as amended (42 U.S.C. 7521). This action is a notice of proposed rulemaking subject to the provisions of Clean Air Act section 307(d). See 42 U.S.C. 7607(d).

List of Subjects

40 CFR Part 9

Reporting and recordkeeping requirements.

40 CFR Part 86

Environmental protection, Administrative practice and procedure, Air pollution control, Motor vehicle pollution, Reporting and recordkeeping requirements.

Dated: August 24, 2006.
Stephen L. Johnson,
Administrator.

[FR Doc. E6-14428 Filed 8-29-06; 8:45 am]

BILLING CODE 6560-50-P